DEPARTMENT OF COMMERCE

Economic Development Administration

[Docket No.: 100427196-0196-01]

Solicitation of Applications for the Research and Evaluation Program: FY 2010 Mapping Regional Innovation Clusters Project Competition

AGENCY: Economic Development Administration, Department of Commerce.

ACTION: Notice and request for applications.

SUMMARY: Pursuant to the Research and Evaluation program, the Economic Development Administration (EDA) solicits applications to develop, implement, and disseminate information that will enable policymakers and practitioners to more effectively understand the regional innovation clusters that drive the national economy and how regional assets and innovation inputs help shape these clusters at the local level. EDA's mission is to lead the Federal economic development agenda by promoting innovation and competitiveness, preparing American regions for growth and success in the worldwide economy. Through its Research and Evaluation program, EDA works towards fulfilling its mission by funding research and technical assistance projects to promote competitiveness and innovation in distressed rural and urban regions throughout the United States and its territories. By working in conjunction with its research partners, EDA will help States, local governments, and community-based organizations to achieve their highest economic potential.

DATES: To be considered timely, a completed application, regardless of the format in which it is submitted, must be either (a) transmitted and time-stamped at http://www.grants.gov no later than June 21, 2010, at 5:00 pm Eastern Time; or (b) received by the EDA representative listed under “For Further Information Contact” no later than June 21, 2010, at 5 p.m. Eastern Time.

Application Submission Requirements: Applicants are advised to read carefully the instructions contained in section IV of the Federal funding opportunity (FFO) announcement for this request for applications. For a copy of the FFO announcement, please see the Web sites listed below under “Electronic Access.”

Applications may be submitted in two formats: (a) electronically in accordance with the instructions provided at http://www.grants.gov or via e-mail to the address provided below in “Electronic Submissions;” or (b) in paper format at the address provided below. EDA will not accept facsimile transmissions of applications. The content of the application is the same for paper submissions as it is for electronic submissions.

Applicants applying electronically through http://www.grants.gov or via e-mail may access the application package by following the instructions provided at http://www.grants.gov. Alternatively, you may obtain paper application packages by contacting the individual listed below under “For Further Information Contact.”

Electronic Submissions: Applicants may submit complete applications through http://www.grants.gov or via e-mail to Hillary Sherman-Zelenka at HSherman@eda.doc.gov. Applicants are encouraged to submit applications electronically at http://www.grants.gov. The preferred electronic file format for attachments is portable document format (PDF); however, EDA will accept electronic files in Microsoft Word, WordPerfect, or Microsoft Excel.

Applicants are strongly encouraged to start early and not to wait until the approaching deadline before logging on and reviewing the application instructions at http://www.grants.gov. Applicants should save and print written proof of an electronic submission made at http://www.grants.gov. If problems occur, the applicant is advised to (a) print any error message received; and (b) call the http://www.grants.gov Contact Center at 1-800-518-4726 for assistance. The Contact Center is open 24 hours a day, 7 days a week (except for Federal holidays). The following link lists useful resources: http://www.grants.gov/help/help.jsp. If you do not find an answer to your question under “Applicant FAQs,” try consulting the “Applicant User Guide” or contacting http://www.grants.gov via e-mail at support@grants.gov or telephone at 1-800-518-4726.

Paper Submissions: Paper (hardcopy) applications submitted under this notice and request for applications may be hand-delivered or mailed to:

FY 2010 Mapping Regional Innovation Clusters Project Competition, Hillary Sherman-Zelenka, Program Analyst, Economic Development Administration, U.S. Department of Commerce, 1401 Constitution Avenue, NW., Room 7009, Washington, DC 20230.

Applicants are advised that, due to mail security measures, EDA's receipt of mail sent via the United States Postal Service may be substantially delayed or suspended in delivery. Applicants may wish to use a guaranteed overnight delivery service.

FOR FURTHER INFORMATION CONTACT: For additional information on the Research and Evaluation program or to obtain a paper application package for this notice, please contact Hillary Sherman-Zelenka, Program Analyst, via e-mail at HSherman@eda.doc.gov (preferred) or by telephone at (202) 482-3357. Additional information about EDA and its Research and Evaluation program may be obtained from EDA's Web site at http://www.eda.gov.

SUPPLEMENTARY INFORMATION:

Background: Recent shifts in the global landscape are profoundly impacting regions across the United States. Communities across the nation, both urban and rural, are facing the intensifying pressures of globalization. For instance, the deployment of high-speed communications, adoption of liberalized trade policies, and innovations in transportation infrastructure have heightened the mobility of goods, labor and knowledge.

These transformations warrant dramatic shifts in the role of economic development professionals. While in the past some development specialists could focus exclusively on the “buffalo hunt” (i.e., seek to attract large employers to their region) and conceive strategies in narrow, jurisdictional terms, today these practices are no longer effective and development specialists must engage in thoughtful analysis of regional assets to create comprehensive strategies that are capable of successfully promoting regional prosperity.

Clusters—and specifically regional innovation clusters—represent an important concept for development practitioners aiming to promote the prosperity of their region. Introduced into the common lexicon by Michael E. Porter's foundational work,¹ clusters are generally recognized to represent the economic efficiencies that exist when industries and their suppliers co-locate. In the twenty years since Porter's first work on the subject, numerous researchers have examined the benefits and opportunities that they afford. In particular, recent work has focused on regional innovation clusters and how they can be employed to create jobs, spur business creation, and promote long-term economic prosperity.²

¹ Michael E. Porter, The Competitive Advantage of Nations (New York, NY: Free Press, 1990).

² Jonathan Sallet, Ed Paisley, and Justin Masterman, The Geography of Innovation: The Federal Government and the Growth of Regional Innovation Clusters (Science Progress, 2009).

Unlike traditional clusters, regional innovation clusters represent not only the economic efficiencies that exist from the co-location of similar industries and suppliers, but also consist of the active networks of synergistic organizations that engage with various businesses within a particular industry sector, the regional assets that exist within the geographic region, and the nodes that are critical for supporting the innovation work of the industry sector, such as R&D centers, venture capitalists, universities and colleges, national labs, and networks of entrepreneurs.

While the body of literature defining regional innovation clusters and discussing their impact on communities is prolific among academics, policy analysts, and national development organizations, this information has not been adequately translated and disseminated into an accessible and persuasive format to the people charged with promoting local economic prosperity.

Recognizing this discontinuity, EDA, pursuant to its Research and Evaluation program, solicits applications for an economic development research project aimed at developing a replicable method for identifying and mapping regional innovation clusters, providing resources on best practices, and providing recommendations on metrics for the evaluation of regional innovation clusters.

Proposed Study: Clusters—and specifically regional innovation clusters (RICs)—hold much promise for assisting local economic development specialists in developing comprehensive economic development strategies that can create jobs, spur business creation, and promote long-term economic prosperity. Unfortunately, while RICs have been widely discussed among policy circles, information on how to identify or support RICs has not been made widely available to front-line practitioners. To rectify this, EDA solicits applications from qualified researchers to accomplish the following:

a. Solicit Input From Practitioners and Policymakers

Applicants should include a process for soliciting input from practitioners and policymakers on how they anticipate using the regional innovation cluster map and tool. Applicants are encouraged to seek input from a diverse spectrum of users, and should ensure that inputs from individuals in both urban and rural geographies are sought out.

b. Develop a Method for Identifying Regional Innovation Clusters

Applicants should propose a method for identifying regional innovation clusters across the U.S. EDA envisions a method that allows users to glean information not only on their industrial and/or occupational clusters, but also on the competitive strengths (assets) of their region, and the region's innovation potential. Applicants are strongly encouraged to build upon previous cluster, asset mapping, and innovation work.

While there are a wide variety of methods for identifying clusters, most are based on assessing the density of industries in a given region using location quotients of the industry NAICS codes (i.e., the density of industries in a region compared to the national density of industries). Occupational clusters, which are based on Standard Occupational Classification (SOC) codes generated by the U.S. Department of Labor, offer another perspective for viewing the density of the skill-sets of a regional population. EDA recognizes the intrinsic value such methods afford, but believes that they sometimes offer a limited snapshot through which to view local economies. Further, EDA recognizes that much of today's cluster work utilizes location quotients without taking into account the historical trajectory of the growth or decline. EDA anticipates selecting a proposal that articulates ways to incorporate the use of location quotients as a foundation, but that also utilizes cluster analysis, trend analysis, and forecasting to inform the method for identifying regional innovation clusters and developing a related mapping tool.

A wide body of literature exists on what inputs are critical to support innovation. This work should be considered as part of the development of the method for identifying regional innovation clusters. EDA has funded two projects focused on innovation: (i) Indiana Business Research Center's Innovation Index (available at http://www.statsamerica.org/innovation/index.html), and (ii) West Virginia University's State Innovation Map (available at http://rrigis.rri.wvu.edu/). Applicants are strongly encouraged to leverage the work produced from these previous EDA investments. EDA recognizes the value such innovation tools afford, but also understands that their applicability would be much greater if tied to the clusters and competitive strengths of a region. EDA anticipates funding a proposal that offers a method for integrating innovation inputs and activities with data on a region's competitive assets and clusters.

An extensive body of literature discusses how clusters and innovation depend upon the underlying assets of a region ³. EDA expects to fund a proposal that recognizes the inherent link among clusters, innovation, and regional assets and proposes a method for identifying regional innovation clusters that considers these inputs in developing the method.

³ Council on Competitiveness, Illuminate: Asset Mapping Roadmap: A Guide to Assessing Regional Development Resources (2007).

Please see the FFO announcement for this request for applications for more detailed information on the project scope of work and required tasks, including the development of a national map of regional innovation clusters, creation of an interactive mapping tool, and identification of metrics for success of evaluating regional innovation clusters.

Any information disseminated to the public under this announcement is subject to the Information Quality Act (Pub. L. 106-554). Applicants are required to comply with the Information Quality Guidelines issued by EDA pursuant to the Information Quality Act, which are designed to ensure and maximize the quality, objectivity, utility, and integrity of information disseminated by EDA. These guidelines can be found on EDA's Web site at http://www.eda.gov.

Electronic Access: The FFO announcement for the FY 2010 Mapping Regional Innovation Clusters Project competition is available at http://www.grants.gov and at http://www.eda.gov/InvestmentsGrants/FFON.xml.

Funding Availability: Funding appropriated under the Consolidated Appropriations Act, 2010 (Pub. L. 111-117, 123 Stat. 3034 at 3114 (2009)) is available for the economic development assistance programs authorized by the Public Works and Economic Development Act of 1965, as amended (42 U.S.C. 3121 et seq.) (PWEDA) and for the Trade Adjustment Assistance for Firms Program under the Trade Act of 1974, as amended (19 U.S.C. 2341 et seq.). Funds in the amount of $255,000,000 have been appropriated for FY 2010 and shall remain available until expended.

For the Research and Evaluation program, EDA is allocating $1,500,000 in FY 2010. EDA anticipates that the mapping regional innovation clusters award or awards made under this competitive solicitation will involve a multi-year project period, with total funding for this research effort reaching up to $1,000,000 for each year. Funding beyond the first year for the grant award shall be contingent on satisfactory performance, availability of appropriations, and EDA priorities.

Statutory Authority: The authority for the Research and Evaluation program is section 207 of PWEDA (42 U.S.C. 3147). EDA's regulations, which will govern an award made under this announcement, are codified at 13 CFR chapter III. The regulations and PWEDA are accessible at http://www.eda.gov/InvestmentsGrants/Lawsreg.xml.

Catalog of Federal Domestic Assistance (CFDA) Number: 11.312, Economic Development—Research and Evaluation.

Applicant Eligibility: Pursuant to PWEDA, eligible applicants for and recipients of EDA investment assistance include a District Organization; an Indian Tribe or a consortium of Indian Tribes; a State; a city or other political subdivision of a State, including a special purpose unit of a State or local government engaged in economic or infrastructure development activities, or a consortium of political subdivisions; an institution of higher education or a consortium of institutions of higher education; and a public or private non-profit organization or association. For-profit, private-sector entities also are eligible for investment assistance under the Research and Evaluation program to carry out specific research or for other purposes set forth in section 207 of PWEDA (42 U.S.C. 3147) and 13 CFR 306.1. See also 42 U.S.C. 3122.

Anticipated Project Period: EDA anticipates a three-year project period with funding in one-year increments, subject to the availability of funds, EDA policy, and satisfactory performance under the award. Applicants should ensure that their proposal and budget clearly specify how they will complete the scope of work, which consists of the tasks listed in section I.B of the FFO announcement, compose the resulting report and Web tools, and present the report and Web tools to EDA senior management within this timeframe. A typical research project period begins with an initial meeting between the recipient and EDA staff to discuss project scope and to ensure that all parties are in agreement as to project terms. After the initial meeting, the recipient generally submits a final work plan to EDA staff for review and approval. Since an award made under this competitive solicitation is envisioned as a cooperative agreement, EDA will have substantial involvement throughout the project period. Progress and financial reports, and project work will be submitted to EDA based on the dates agreed to during the initial meeting and as outlined in the award special terms and conditions.

Typically, the recipient submits a draft research report to EDA at least 90 days before the end of the project period for EDA's review. If the draft research report is approved, EDA will approve publication of a final research report, and the recipient will brief EDA senior management on research methods and report results.

Cost Sharing Requirement: Generally, the amount of the EDA grant may not exceed fifty percent of the total cost of the project. Projects may receive an additional amount that shall not exceed thirty percent, as determined by EDA, based on the relative needs of the region in which the project will be located. See section 204(a) of PWEDA (42 U.S.C. 3144) and 13 CFR 301.4(b)(1). The Assistant Secretary of Commerce for Economic Development has the discretion to establish a maximum EDA investment rate of up to one-hundred percent where the project: (i) Merits and is not otherwise feasible without an increase to the EDA investment rate; or (ii) will be of no or only incidental benefit to the recipient. See section 204(c)(3) of PWEDA (42 U.S.C. 3144) and 13 CFR 301.4(b)(4).

EDA will consider the nature of the contribution (cash or in-kind), the amount of any matching share funds, and fairly assess any in-kind contributions in evaluating the cost to the Government and the feasibility of the project budget (see the “Evaluation Criteria” section below). While cash contributions are preferred, in-kind contributions, fairly evaluated by EDA, may provide the non-Federal share of the total project cost. See section 204(b) of PWEDA (42 U.S.C. 3144) and section III.B of the FFO announcement for this request for applications. In-kind contributions, which may include assumptions of debt and contributions of space, equipment, and services, are eligible to be included as part of the non-Federal share of eligible project costs if they meet applicable Federal cost principles and uniform administrative requirements. Funds from other Federal financial assistance awards are considered matching share funds only if authorized by statute, which may be determined by EDA's reasonable interpretation of the statute. See 13 CFR 300.3. The applicant must show that the matching share is committed to the project for the entire project period, will be available as needed, and is not conditioned or encumbered in any way that precludes its use consistent with the requirements of EDA investment assistance. See 13 CFR 301.5.

Intergovernmental Review: Applications under the Research and Evaluation program are not subject to Executive Order 12372, “Intergovernmental Review of Federal Programs.”

Application Review and Award Notification Information: To apply for an award under this request for applications, an eligible applicant must submit a completed application to EDA before the closing date and time specified in the DATES section of this notice, and in the manner provided in section IV of the applicable FFO announcement. Any application received or transmitted, as the case may be, after 5 p.m. Eastern Time on June 21, 2010, will not be considered for funding. Applications that do not include all items required or that exceed the page limitations set forth in section IV.B of the FFO announcement will be considered non-responsive and will not be considered by the review panel. A panel comprised of at least three EDA staff members, all of whom will be full-time Federal employees, will be formed to review applications using the evaluation criteria specified in this notice. The review panel's rating and ranking of the applications will be presented to the Assistant Secretary, who is the Selecting Official, under this competitive solicitation. By September 15, 2010, EDA expects to notify the applicant selected for investment assistance under this notice.

Evaluation Criteria: The review panel will evaluate applications and rate and rank them using the following criteria of approximate equal weight:

(1) Conformance with EDA's statutory and regulatory requirements, including the extent to which the proposed project satisfies the award requirements set out below and as provided in 13 CFR 306.2:

• Strengthens the capacity of local, State, or national organizations and institutions to undertake and promote effective economic development programs targeted to regions of distress;

• Benefits distressed regions; and

• Demonstrates innovative approaches to stimulate economic development in distressed regions.

(2) The degree to which an EDA investment will have strong organizational leadership, relevant project management experience, and a significant commitment of human resources talent to ensure the project's successful execution (see 13 CFR 301.8(b)). EDA recognizes that the project scope of work under this competitive solicitation requires diverse skills, and therefore will give preference to consortia of organizations.

(3) The ability of the applicant to successfully implement the proposed project (see 13 CFR 301.8).

(4) The feasibility of the budget presented.

(5) The cost to the Federal government.

(6) The inclusion of a plan to distribute the research and project data to development practitioners through a project website that can be accessed free of charge.

(7) The ability to complete key tasks within a timely manner.

(8) The inclusion of a solid plan for sustaining the project after the EDA investment.

For purposes of this competitive solicitation, EDA will consider applications submitted only by applicants with the current capacity to undertake research that advances innovation in economic development practice or theory, and that has the potential for impact on a regional or national scale. See section 3 of PWEDA (42 U.S.C. 3122) and 13 CFR 300.3 and 306.2.

Selection Factors: The Assistant Secretary, as the Selecting Official, expects to fund the highest ranking application, as recommended by the review panel, submitted under this competitive solicitation. However, if EDA does not receive satisfactory applications, the Assistant Secretary may not make any selection. Depending on the quality of the applications received, the Assistant Secretary may select more than one application. Also, the Assistant Secretary may select an application out of rank order for the following reasons: (1) A determination that the selected application better meets the overall objectives of sections 2 and 207 of PWEDA (42 U.S.C. 3121 and 3147); (2) the applicant's performance under previous awards; or (3) the availability of funds.

The Department of Commerce Pre-Award Notification Requirements for Grants and Cooperative Agreements: Administrative and national policy requirements for all Department of Commerce awards are contained in the Department of Commerce Pre-Award Notification Requirements for Grants and Cooperative Agreements, published in the Federal Register on February 11, 2008 (73 FR 7696). This notice may be accessed at http://www.gpoaccess.gov/fr/retrieve.html, making sure the radial button for the correct Federal Register volume is selected (here, 2008 Federal Register, Vol. 73), entering the Federal Register page number provided in the previous sentence (7696), and clicking the “Submit” button.

Paperwork Reduction Act: This request for applications contains collections of information subject to the requirements of the Paperwork Reduction Act (PRA). The Office of Management and Budget (OMB) has approved the use of Form ED-900 (Application for Investment Assistance) under control number 0610-0094. Forms SF-424 (Application for Federal Assistance); SF-424A (Budget Information—Non-Construction Programs), and SF-424B (Assurances—Non-Construction Programs) are approved under OMB control numbers 4040-0004, 4040-0006, and 4040-0007, respectively. Notwithstanding any other provision of law, no person is required to respond to, nor shall any person be subject to a penalty for failure to comply with, a collection of information subject to the requirements of the PRA unless the collection of information displays a currently valid OMB control number.

Executive Order 12866: This notice has been determined to be not significant for purposes of Executive Order 12866, “Regulatory Planning and Review.”

Executive Order 13132: It has been determined that this notice does not contain “policies that have Federalism implications,” as that phrase is defined in Executive Order 13132.

Administrative Procedure Act/Regulatory Flexibility Act: Prior notice and an opportunity for public comments are not required by the Administrative Procedure Act or any other law for rules concerning grants, benefits, and contracts (5 U.S.C. 553(a)(2)). Because notice and opportunity for comment are not required pursuant to 5 U.S.C. 553 or any other law, the analytical requirements of the Regulatory Flexibility Act (5 U.S.C. 601 et seq.) are inapplicable. Therefore, a regulatory flexibility analysis has not been prepared.

Dated: May 14, 2010.
Brian P. McGowan,
Deputy Assistant Secretary of Commerce for Economic Development.

[FR Doc. 2010-11949 Filed 5-18-10; 8:45 am]

BILLING CODE 3510-24-P